DEPARTMENT OF TRANSPORTATION

Federal Aviation Administration

14 CFR Part 71

[Docket No. FAA-2013-1062; Airspace Docket No. 13-ACE-3]

RIN 2120-AA66

Proposed Modification of Air Traffic Service (ATS) Routes; North Central United States

AGENCY: Federal Aviation Administration (FAA), DOT.

ACTION: Notice of proposed rulemaking (NPRM).

SUMMARY: This action proposes to modify three Jet Routes (J-45, J-151, and J-233) and a high altitude area navigation (RNAV) route (Q-19). The FAA is proposing this action due to a service restriction of the Des Moines, IA (DSM), VHF Omnidirectional Range (VOR)/Tactical Air Navigation (VORTAC) facility that provides navigation guidance for a portion of the ATS routes. This action would enhance the safety and efficient management of aircraft flying within the National Airspace System (NAS).

DATES: Comments must be received on or before March 10, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2013-1062 and Airspace Docket No. 13-ACE-3 at the beginning of your comments. You may also submit comments through the Internet at http://www.regulations.gov.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2013-1062 and Airspace Docket No. 13-ACE-3) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2013-1062 and Airspace Docket No. 13-ACE-3.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Central Service Center, Operations Support Group, Federal Aviation Administration, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

Background

The DSM VOR was initially identified as unstable after a flight check was conducted on the instrument approach procedures at Chariton Municipal Airport, Chariton, IA, in September 2009. The VOR was determined to be unusable from the 111 degree radial clockwise to the 169 degree radial and a Notice to Airmen (NOTAM) was issued. In January 2012, another flight inspection was flown following Technical Operations maintenance actions having been accomplished. Increased radial restrictions were documented by that flight inspection and the NOTAM was updated to reflect the DSM VOR 085 degree radial clockwise to the 184 degree radial as unusable. The VOR antenna, antenna bridges, and cabling were replaced and a special flight inspection conducted. The flight inspection reduced the VOR restriction to reflect from the 095 degree radial clockwise to the 150 degree radial, which remains published today.

The DSM VOR restrictions are caused by external structural signal reflections that numerous maintenance corrective actions have failed to correct. As a result, the ATS routes, fixes, and procedures that are affected by the VOR restriction must be amended. Having exhausted maintenance corrective action alternatives, the FAA is proposing to reroute the NAS jet route structure that is affected by the DSM VOR restriction and extend an existing high altitude RNAV route to retain the direct routing between the St. Louis, MO (STL), and DSM VORTACs for aircraft capable of flying RNAV.

The Proposal

The FAA is proposing an amendment to Title 14, Code of Federal Regulations (14 CFR) part 71 to amend Jet Routes J-45, J-151, and J-233, and high altitude RNAV route Q-19 to address route impacts caused by the DSM VOR radials restricted from use. The Des Moines, IA, VORTAC facility restriction has made this action necessary. The proposed route modification actions are outlined below.

J-45: J-45 extends between Virginia Key, FL, and Aberdeen, SD. The FAA proposes to amend the route segment between the STL and DSM VORTACs by relocating it over the Kirksville, MO (IRK) VORTAC. The proposed amendment would extend the route by approximately four nautical miles (NM), but retains a route structure between STL and DSM.

J-151: J-151 extends between Cross City, FL and Whitehall, MT. The FAA proposes to relocate the route segment between STL and the O'Neil, NE (ONL) VORTAC further west from its current routing by overflying the IRK and Omaha, NE (OVR), VORTACs. This would result in a near direct route from STL to ONL; providing a 12.5 NM reduction in the route length.

J-233: J-233 extends between Waterloo, IA (ALO), and STL. Unfortunately, a portion of the route between STL and the intersection of the STL 318° and ALO 184° radials (COLIE to SKBOZ fixes) failed an extended service volume flight check and is not usable. The FAA proposes to replace the route intersection noted above with the IRK VORTAC to overcome the extended service volume issue. This would move the existing dogleg in the route approximately 26 NM south of its current position, but only add approximately 10 NM to the route's length.

Q-19: Q-19 extends between Nashville, TN (BNA), and the PLESS fix, overlying a portion of J-45. The FAA proposes to extend Q-19 northeast from the PLESS fix to DSM to retain a direct routing capability between STL and DSM for aircraft capable of flying RNAV routes. This proposed RNAV route extension would replace the portion of J-45 between STL and DSM, addressed above, that is proposed to be relocated and furthers the transition within the NAS to an RNAV route structure in support of the NextGen initiative.

The navigation aid radials cited in the proposed Jet Route and high altitude RNAV route descriptions, below, are stated relative to True north.

Jet Routes are published in paragraph 2004 and high altitude RNAV routes (Q) are published in paragraph 2006, respectively, of FAA Order 7400.9X dated August 7, 2013, and effective September 15, 2013, which is incorporated by reference in 14 CFR 71.1. The Jet Routes and high altitude RNAV route listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this proposed rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 2004 Jet Routes

J-45 [Amended]

From Virginia Key, FL; INT Virginia Key 014° and Treasure, FL, 143° radials; Treasure; INT Treasure 330° and Ormond Beach, FL, 183° radials; Ormond Beach; Craig, FL; Alma, GA; Macon, GA; Atlanta, GA; Nashville, TN; St Louis, MO; Kirksville, MO; Des Moines, IA; Sioux Falls, SD; to Aberdeen, SD.

* * * * *

J-151 [Amended]

From Cross City, FL; Vulcan, AL; Farmington, MO; St. Louis, MO; Kirksville, MO; Omaha, NE; O'Neil, NE; Rapid City, SD; Billings, MT; INT Billings 266° and Whitehall, MT, 103° radials; to Whitehall.

* * * * *

J-233 [Amended]

From Waterloo, IA; Kirksville, MO; to St. Louis, MO.

* * * * *

Paragraph 2006 United States Area Navigation Routes

Q-19 Nashville, TN (BNA) to Aberdeen, SD (ABR) [Amended]
Nashville, TN (BNA) | VORTAC | (Lat. 36°08′13″ N., long. 86°41′05″ W.)
PLESS, IL | Fix | (Lat. 37°48′35″ N., long. 88°57′48″ W.)
St. Louis, MO (STL) | VORTAC | (Lat. 38°51′38″ N., long. 90°28′57″ W.)
Des Moines, IA (DSM) | VORTAC | (Lat. 41°26′15″ N., long. 93°38′55″ W.)
Sioux Falls, SD (FSD) | VORTAC | (Lat. 43°38′58″ N., long. 96°46′52″ W.)
Aberdeen, SD (ABR) | VOR/DME | (Lat. 45°25′02″ N., long. 98°22′07″ W.)

* * * * *

Issued in Washington, DC, on January 15, 2014.
Gary A. Norek,
Manager, Airspace Policy and Regulations Group.

[FR Doc. 2014-01178 Filed 1-21-14; 8:45 am]

BILLING CODE 4910-13-P